INTERNATIONAL TRADE COMMISSION

[USITC SE-02-020]

Sunshine Act Meeting

AGENCY: International Trade Commission.

Time and Date: July 19, 2002 at 11 a.m.

Place: Room 101, 500 E Street SW., Washington, DC 20436, Telephone: (202) 205-2000.

Status: Open to the public.

Matters to be Considered: 1. Agenda for future meeting: None.

2. Minutes.

3. Ratification List.

4. Inv. Nos. 731-TA-955, 960, and 963 (Preliminary) (Remand) (Carbon and Certain Alloy Steel Wire Rod from Egypt, South Africa, and Venezuela)—briefing and vote. (The Commission is currently scheduled to transmit its determination and Commissioners' views on remand to the Court of International Trade on or before August 2, 2002.)

5. Outstanding action jackets: None.

In accordance with Commission policy, subject matter listed above, not disposed of at the scheduled meeting, may be carried over to the agenda of the following meeting.

By order of the Commission:
Issued: July 12, 2002.
Marilyn R. Abbott,
Secretary to the Commission.

[FR Doc. 02-18046 Filed 7-12-02; 2:53 pm]

BILLING CODE 7020-02-P